DEPARTMENT OF HOMELAND SECURITY

[Docket No. DHS-2013-0014]

Homeland Security Science and Technology Advisory Committee (HSSTAC)

AGENCY: Science and Technology Directorate, DHS.

ACTION: Committee Management; Notice of Federal Advisory Committee Meeting.

SUMMARY: The Homeland Security Science and Technology Advisory Committee (HSSTAC) will meet on March 21, 2013 in Washington, DC The meeting will be open to the public.

DATES: The HSSTAC will meet Thursday, March 21, 2013 11:30 a.m.—4:15 p.m. The meeting may close early if the committee has completed its business.

ADDRESSES: The meeting will be held at the Department of Homeland Security (DHS), Science and Technology Directorate, 1120 Vermont Avenue NW., (Room 5-212), Washington, DC.

All visitors must pre-register in order to gain entry to the building. To register, please contact the person listed under FOR FURTHER INFORMATION CONTACT, below. Alternatively, you may register via this Web site: http://www.dhs.gov/st-hsstac. Select the link labeled “Click Here to Register.” Please provide your name, citizenship, organization (if any), title (if any), email address (if any), and telephone number.

For information on facilities or services for individuals with disabilities or to request special assistance at the meeting, contact the person listed under FOR FURTHER INFORMATION CONTACT, below.

The materials that are provided to committee members will also be provided to the public. Materials that are sent to committee members in advance will be posted on the public Web site below on or before March 21. Materials that are provided to committee members at the meeting will be made available to public attendees, and also posted to the public Web site below as soon as possible after the meeting. Check this Web site after March 6, 2013: http://www.dhs.gov/st-hsstac. To facilitate public participation, we invite public comment on the issues to be considered by the committee as listed in the “Supplementary Information” below. Comments may be submitted orally, in writing, or both. If submitting in writing, please include the docket number (DHS-2013-0014) and submit via one of the following methods before March 19, 2013:

• Federal eRulemaking Portal: http://www.regulations.gov. Follow the instructions for submitting comments.

• Email: mary.hanson@hq.dhs.gov. Include the docket number in the subject line of the message.

• Fax: 202-254-6176.

• Mail: Mary Hanson, HSSTAC Executive Director, Science and Technology Directorate, Department of Homeland Security, 245 Murray Lane, Bldg. 410, Washington, DC 20528

Instructions: All submissions received must include the words “Department of Homeland Security” and the docket number. Comments received will be posted without alteration at http://www.regulations.gov, including any personal information provided.

Docket: For access to the docket to read background documents or comments received by the HSSTAC, go to http://www.regulations.gov.

A period is allotted for oral public comment on March 21, 2013, after each topic area and before any recommendations are formulated. Speakers are asked to pre-register and limit their comments to three minutes or less. Please note that the public comment period may end before the time indicated, following the last call for comments. To register as a speaker, contact the person listed below.

FOR FURTHER INFORMATION CONTACT: Mary Hanson, HSSTAC Executive Director, Science and Technology Directorate, Department of Homeland Security, 245 Murray Lane, Bldg. 410, Washington, DC 20528, 202-254-5866(O), 202-254-5823 (F), mary.hanson@hq.dhs.gov.

SUPPLEMENTARY INFORMATION: Notice of this meeting is given under the Federal Advisory Committee Act (FACA), 5 U.S.C. App. (Pub. L. 92-463). The HSSTAC was established and operates in accordance with the provisions of the FACA. The committee addresses areas of interest and importance to the Under Secretary for Science and Technology, such as new developments in systems engineering, cyber-security, knowledge management and how best to leverage related technologies funded by other federal agencies and by the private sector. It also advises the Under Secretary on policies, management processes, and organizational constructs as needed.

Agenda: Members will meet with the Under Secretary and Deputy Under Secretary for the DHS Science and Technology Directorate (DHS S&T) to discuss proposed areas for study and receive taskings from the Department. The committee will then receive oral and written reports from its subcommittees on the following issues:

—DHS S&T collaboration with industry, and the Department's request for HSSTAC input on how to improve that collaboration.

—Cyber Security and the evolution of the Cyber Security Division of DHS S&T.

The committee will review the information presented on each issue, deliberate on any preliminary recommendations presented by the subcommittees, and formulate initial recommendations for the Department's consideration. The last item on the agenda is a briefing and discussion regarding the recent creation of a Resilient Systems Division at DHS S&T. The committee will hear why this division was created and its strategic direction, and will formulate preliminary recommendations for consideration by the Department.

At the end of the meeting and following input from the committee, Department officials will prioritize the issues discussed and provide direction to the committee, including the possible establishment of new taskings to address the highest priorities.

Dated: February 26, 2013.
Mary Hanson,
Executive Director, Homeland Security Science and Technology Advisory Committee.

[FR Doc. 2013-04921 Filed 3-1-13; 8:45 am]

BILLING CODE P